Title 3—

The President

Proclamation 8013 of May 4, 2006

Mother's Day, 2006

By the President of the United States of America

A Proclamation

On Mother's Day, we honor our mothers and pay tribute to their devoted work and selfless gift of love.

America's mothers are women of determination and vision. They serve as caregivers and guides, helping to build the foundation for our children's success and nurturing them as they grow and explore the great promise of our Nation. Through their mothers' examples, children come to understand the virtue of kindness, the blessing of compassion, and the importance of principle. A mother's support encourages children to make right choices, set high goals, and become good citizens. A mother's love inspires children to achieve their full potential and strengthens the character of our country. The commitment and love of mothers reflect the best of America.

On this special day, we remember the many mothers whose sons and daughters serve in harm's way. The determination and courage of these women demonstrate the spirit of our Nation, and America will always be grateful for their unfailing devotion. We also recognize the dedication of the many mothers who serve in America's Armed Forces. These brave women protect the safety and security of our Nation and help ensure a peaceful future for our children.

To honor mothers, the Congress, by a joint resolution approved May 8, 1914, as amended (38 Stat. 770), has designated the second Sunday in May each year as “Mother's Day” and has requested the President to call for its appropriate observance. May God bless all mothers across our country on this special day, and throughout the year.

NOW, THEREFORE, I, GEORGE W. BUSH, President of the United States of America, do hereby proclaim May 14, 2006, as Mother's Day. I encourage all Americans to show their gratitude and love to mothers for making a difference in the lives of their children and communities. I call upon citizens to observe this day with appropriate programs, ceremonies, and activities.

IN WITNESS WHEREOF, I have hereunto set my hand this fourth day of May, in the year of our Lord two thousand six, and of the Independence of the United States of America the two hundred and thirtieth.

B

[FR Doc. 06-4388

Filed 5-8-06; 8:46 am]

Billing code 3195-01-P